DEPARTMENT OF TRANSPORTATION

Federal Aviation Administration

14 CFR Part 39

[Docket No. 2003-NM-97-AD]

RIN 2120-AA64

Airworthiness Directives; Empresa Brasileira de Aeronautica S.A. (EMBRAER) Model EMB-135 and -145 Series Airplanes

AGENCY: Federal Aviation Administration, DOT.

ACTION: Notice of proposed rulemaking (NPRM).

SUMMARY: This document proposes the adoption of a new airworthiness directive (AD) that is applicable to certain Model EMB-135 and -145 series airplanes. This proposal would require modification of the pitch trim system, which includes replacing certain components of the system with new or serviceable components, and upgrading certain software to a newer version. This action is necessary to prevent the temporary loss of the pitch trim command, which could result in reduced controllability of the airplane and consequent injury to the flightcrew and passengers. This action is intended to address the identified unsafe condition.

DATES: Comments must be received by March 8, 2004.

ADDRESSES: Submit comments in triplicate to the Federal Aviation Administration (FAA), Transport Airplane Directorate, ANM-114, Attention: Rules Docket No. 2003-NM-97-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-97-AD” in the subject line and need not be submitted in triplicate. Comments sent via the Internet as attached electronic files must be formatted in Microsoft Word 97 or 2000 or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-97-AD.” The postcard will be date stamped and returned to the commenter.

Availability of NPRMs

Any person may obtain a copy of this NPRM by submitting a request to the FAA, Transport Airplane Directorate, ANM-114, Attention: Rules Docket No. 2003-NM-97-AD, 1601 Lind Avenue, SW., Renton, Washington 98055-4056.

Discussion

The Departmento de Aviacao Civil (DAC), which is the airworthiness authority for Brazil, notified the FAA that an unsafe condition may exist on certain EMBRAER Model EMB-135 and -145 series airplanes. The DAC advises that several operators have reported temporary loss of the pitch trim command during the climb after take-off caused by probable failure of various components of the pitch trim system. The pitch trim system consists of several components including the horizontal stabilizer control unit (HSCU), the horizontal stabilizer actuator (HSA), the aural warning unit (AWU), integrated computer (IC) units, engine indicating and crew alerting system/electronic flight information system (EICAS/EFIS) software, the control yoke pitch trim switch, and the data acquisition unit (DAU). Failure of the pitch trim system, if not corrected, could result in reduced controllability of the airplane and consequent injury to the flightcrew and passengers.

Explanation of Relevant Service Information

EMBRAER has issued the following service bulletins related to the modification of the pitch trim system.

• EMBRAER Service Bulletin 145LEG-27-0002, dated February 5, 2003 (for Model EMB-135BJ series airplanes); and EMBRAER Service Bulletin 145-27-0084, Revision 04, dated October 21, 2003 (for Model EMB-135ER, -135LR, -135KE, and -135KL series airplanes; and Model EMB-145, -145ER, -145MR, -145LR, -145XR, -145MP, and -145EP series airplanes); which describe procedures for replacing the HSCU with a new unit having improved features. EMBRAER Service Bulletin 145-27-0084 specifies that EMBRAER Service Bulletin 145-27-0091, Change 02, dated November 27, 2002, must be accomplished either previously or concurrently with the replacement of the HSCU.

EMBRAER Service Bulletins 145LEG-27-0002 and 145-27-0084 also describe procedures for connecting the HSCU and the DAU (including the replacement of the pitch trim system circuit breakers with new circuit breakers sized for the new system load capacity, as applicable). EMBRAER Service Bulletin 145-27-0084 specifies that EMBRAER Service Bulletins 145-31-0028, Change 04, dated December 20, 2002; 145-31-0033, Revision 03, dated August 25, 2003; and 145-27-0083, Change 04, dated November 27, 2002 must be accomplished prior to the connection of the HSCU and the DAU.

• EMBRAER Service Bulletin 145-27-0083, Change 04, dated November 27, 2002 (for Model EMB-135ER, -135LR, -135KE, and -135KL series airplanes; and Model EMB-145, -145ER, -145MR, -145LR, -145XR, -145MP, and -145EP series airplanes), must be accomplished either previously or concurrently with Service Bulletin 145-27-0084. Service Bulletin 145-27-0083 contains procedures for installing electrical provisions for the new pitch trim system, which includes adding new cable harnesses in the front electronic compartment, the entire center fuselage, the cockpit, and the entire rear fuselage; to enable the connection of the HSCU through certain electrical connections, and to enable the connection of DAU #2 to the HSCU.

• EMBRAER Service Bulletin 145-27-0091, Change 02, dated November 27, 2002 (for all affected models); which describes procedures for replacing the HSA with a new HSA.

• EMBRAER Service Bulletin 145-31-0028, Change 04, dated December 20, 2002 (for all affected models); which describes procedures for replacing the AWU with an AWU having improved features. This service bulletin also references Grimes Aerospace Company Service Bulletin 80-0694-33-SB01, dated January 1, 2002, as an additional source of service information for accomplishment of the replacement. The Grimes Aerospace service bulletin is included in the EMBRAER service bulletin.

• EMBRAER Service Bulletin 145LEG-31-0001, dated August 19, 2002 (for Model EMB-135BJ series airplanes); and EMBRAER Service Bulletin 145-31-0033, Revision 03, dated August 25, 2003 (for Model EMB-135ER, -135LR, -135KE, and -135KL series airplanes; and Model EMB-145, -145ER, -145MR, -145LR, -145XR, -145MP, and -145EP series airplanes); which describe procedures for replacing any IC units having certain part numbers with new units having new modification letters and new part numbers. These service bulletins also describe procedures for installing an updated version of the software for the EICAS/EFIS. EMBRAER Service Bulletin 145-31-0033 specifies that EMBRAER Service Bulletins 145-31-0020, Change 03, dated July 30, 2002; and 145-27-0084, Revision 04, dated October 21, 2003 (described previously); must be accomplished previously. EMBRAER Service Bulletin 145LEG-31-0001 and 145-31-0033 reference Honeywell Service Bulletin 7017000-22-6089, Revision 003, dated October 16, 2003, as an additional source of service information for accomplishment of the replacement and installation.

• EMBRAER Service Bulletin 145-31-0020, Change 03, dated July 30, 2002 (for Model EMB-135ER, -135LR, -135KE, and -135KL series airplanes; and Model EMB-145, -145ER, -145MR, -145LR, -145XR, -145MP, and -145EP series airplanes), must be accomplished prior to accomplishment of Service Bulletin 145-31-0033. Service Bulletin 145-31-0020 contains procedures for replacing the IC-600#1 and IC-600#2, and the DAU; and for upgrading the EICAS to version 17.

• EMBRAER Service Bulletin 145LEG-27-0004, dated January 21, 2003 (for Model EMB-135BJ series airplanes); and EMBRAER Service Bulletin 145-27-0096, Revision 03, dated September 2, 2003 (for Model EMB-135ER, -135LR, -135KE, and -135KL series airplanes, and Model EMB-145, -145ER, -145MR, -145LR, -145XR, -145MP, and -145EP series airplanes); which describe procedures for replacing the control yoke pitch trim switch with a new switch; and procedures for replacing the placard around the switch knob, as applicable, with a new placard.

• EMBRAER Service Bulletin 145-27-0073, Change 02, dated February 26, 2002 (for all affected models); which describes procedures for replacing the pitch trim back-up control switch with a new switch (including reidentifying the trim control panel).

The DAC classified these service bulletins as mandatory and issued Brazilian airworthiness directive 2003-03-01, dated April 3, 2003, to ensure the continued airworthiness of these airplanes in Brazil.

FAA's Conclusions

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Interim Action

We consider this proposed AD interim action. The manufacturer is currently developing additional modifications that will address the unsafe condition identified in this proposed AD. Once these modifications are developed, approved, and available, we may consider additional rulemaking.

Explanation of Requirements of Proposed Rule

Since an unsafe condition has been identified that is likely to exist or develop on other airplanes of the same type design registered in the United States, the proposed AD would require accomplishment of the actions specified in the service bulletins described previously.

Cost Impact

The FAA estimates that 365 airplanes of U.S. registry would be affected by this proposed AD.

For all affected airplanes, we estimate that it would take approximately 1 work hour per airplane to accomplish the proposed replacement of the HCSU, and that the average labor rate is $65 per work hour. The manufacturer will provide replacement parts at no cost. Based on these figures, the cost impact of this proposed replacement on U.S. operators is estimated to be $23,725, or $65 per airplane.

For airplanes subject to EMBRAER Service Bulletin 145-27-0091, we estimate that it would take approximately 6 work hours per airplane to accomplish the proposed replacement of the HSA, and that the average labor rate is $65 per work hour. The manufacturer will provide replacement parts at no cost. Based on these figures, the cost impact of this proposed replacement on U.S. operators is estimated to be $390 per airplane.

For airplanes subject to EMBRAER Service Bulletin 145-31-0028, we estimate that it would take approximately 2 work hours per airplane to accomplish the proposed replacement of the AWU, and that the average labor rate is $65 per work hour. Required parts would cost approximately $1,100 per airplane. Based on these figures, the cost impact of the proposed AD on U.S. operators is estimated to be $1,230 per airplane.

For airplanes subject to EMBRAER Service Bulletins 145LEG-31-0001, or 145-31-0033, we estimate that it would take between 3 and 6 work hours per airplane to accomplish the proposed installation of the new EICAS/EFIS, and that the average labor rate is $65 per work hour. Required parts would cost approximately $10 per airplane. Based on these figures, the cost impact of the proposed AD on U.S. operators is estimated to be between $205 and $400 per airplane.

For airplanes subject to EMBRAER Service Bulletins 145LEG-27-0004, or 145-27-0096, we estimate that it would take between 4 and 5 work hours per airplane to accomplish the proposed replacement of the yoke pitch trim switch, and that the average labor rate is $65 per work hour. Required parts would cost approximately between $1,042 and $1,056 per airplane. Based on these figures, the cost impact of the proposed AD on U.S. operators is estimated to be between $1,302 and $1,381 per airplane.

For airplanes subject to EMBRAER Service Bulletin 145-27-0073, we estimate that it would take approximately 3 work hours per airplane to accomplish the proposed replacement of pitch trim back-up control switch, and that the average labor rate is $65 per work hour. Required parts would cost approximately $371 per airplane. Based on these figures, the cost impact of the proposed AD on U.S. operators is estimated to be $566 per airplane.

For airplanes subject to the requirements in EMBRAER Service Bulletin 145-27-0083, Change 04, dated November 27, 2002, we estimate that it would take approximately 38 hours to accomplish the proposed modifications, and that the average labor rate is $65 per work hour. Required parts would cost approximately $448. Based on these figures, the cost impact of the proposed AD on U.S. operators is estimated to be $2,918 per airplane.

For airplanes subject to the requirements in EMBRAER Service Bulletin 145-31-0020, Change 03, dated July 30, 2002, we estimate that it would take between 9 and 56 hours to accomplish the proposed upgrade, and that the average labor rate is $65 per work hour. Required parts would cost between $3 and $5,100. Based on these figures, the cost impact of the proposed AD on U.S. operators is estimated to be approximately between $588 and $8,740 per airplane.

For all affected airplanes, we estimate that it would take between 1 and 3 hours per airplane to accomplish the proposed connection between the HSCU and the DAU, and that the average labor rate is $65 per work hour. Required parts would cost between $3 and $52 per airplane. Based on these figures, the cost impact of the proposed AD on U.S. operators is estimated to be between $24,820 and $90,155, or between $68 and $247 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Empresa Brasileira de Aeronautica S.A. (EMBRAER): Docket 2003-NM-97-AD.

Applicability: Model EMB-135 and -145 series airplanes, as listed in EMBRAER Service Bulletin 145LEG-27-0002, dated February 5, 2003; EMBRAER Service Bulletin 145-27-0084, Revision 04, dated October 21, 2003; and EMBRAER Service Bulletin 145-27-0096, Revision 03, dated September 2, 2003; certificated in any category.

Compliance: Required as indicated, unless accomplished previously.

To prevent the temporary loss of the pitch trim command, which could result in reduced controllability of the airplane and consequent injury to the flightcrew and passengers, accomplish the following:

Prior or Concurrent Requirements

(a) Prior to the accomplishment of the actions in paragraph (b) of this AD, accomplish any applicable prior or concurrent requirement listed in paragraph (a)(1) or (a)(2) of this AD.

(1) For airplanes listed in EMBRAER Service Bulletin 145-31-0020, Change 03, dated July 30, 2002, that are equipped with engine indicating and crew alerting system/electronic flight information system (EICAS/EFIS) software version 16.5 or earlier: Upgrade to software version 17 of the EICAS/EFIS software, in accordance with the Accomplishment Instructions of the service bulletin.

(2) For airplanes listed in EMBRAER Service Bulletin 145-27-0083, Change 04, dated November 27, 2002: Install electrical provisions for the new pitch trim system in accordance with the Accomplishment Instructions of the service bulletin.

Modification of the Pitch Trim System: Replacement, Installation, and Connection

(b) Within 18 months or 5,000 flight hours after the effective date of this AD, whichever occurs first, but following any applicable prior or concurrent requirement listed in paragraph (a)(1) or (a)(2) of this AD: Modify the pitch trim system for the affected airplanes by accomplishing the actions in paragraphs (b)(1), (b)(2), (b)(3), (b)(4), (b)(5), (b)(6), and (b)(7), as applicable. Accomplish the actions in the sequence specified in this AD.

(1) For all airplanes: Replace the horizontal stabilizer control unit (HSCU) with a new unit with improved features, and having a new part number in accordance with paragraph 3.J. (Part I) of EMBRAER Service Bulletin 145LEG-27-0002, dated February 5, 2003 (for Model EMB-135BJ series airplanes); or paragraph 3.J. (Part I) of EMBRAER Service Bulletin 145-27-0084, Revision 04, dated October 21, 2003 (for Model EMB-135ER, -135LR, -135KE, and -135KL series airplanes; and Model EMB-145, -145ER, -145MR, -145LR, -145XR, -145MP, and -145EP series airplanes); as applicable.

(2) For airplanes listed in EMBRAER Service Bulletin 145-27-0091, Change 02, dated November 27, 2002: Replace the horizontal stabilizer actuator (HSA) with a new HSA having a new part number in accordance with the Accomplishment Instructions of the service bulletin.

(3) For airplanes listed in EMBRAER Service Bulletin 145-31-0028, Change 04, dated December 20, 2002: Replace the aural warning unit (AWU) with an AWU having improved features and a new part number in accordance with the Accomplishment Instructions of the service bulletin.

Note 1: EMBRAER Service Bulletin 145-31-0028 references Grimes Aerospace Company Service Bulletin 80-0694-33-SB01, dated January 1, 2002, as an additional source of service information for accomplishment of the replacement. The Grimes Aerospace service bulletin is included in the EMBRAER service bulletin.

(4) For airplanes listed in EMBRAER Service Bulletin 145LEG-31-0001, dated August 19, 2002 (for Model EMB-135BJ series airplanes); or EMBRAER Service Bulletin 145-31-0033, Revision 03, dated August 25, 2003 (for Model EMB-135ER, -135LR, -135KE, and -135KL series airplanes; and Model EMB-145, -145ER, -145MR, -145LR, -145XR, -145MP, and -145EP series airplanes): Replace any IC-600 units having part numbers (P/N) 7107000-82407, -82407 MODS-B, -82427, -83407, and -83407 MODS-B, with new IC-600 MOD AB units having P/Ns 7107000-82428, or -83428, as applicable; and install a new software version 18.5 (phase 8.5) of the EICAS/EFIS system for all IC-600 MOD AB hardware. Accomplish the actions in accordance with the Accomplishment Instructions of the applicable service bulletin.

Note 2: EMBRAER Service Bulletins 145LEG-31-0001 and 145-31-0033 reference Honeywell Service Bulletin 7017000-22-6089, Revision 003, dated October 16, 2003, as an additional source of service information for accomplishment of the replacement and installation.

(5) For airplanes listed in EMBRAER Service Bulletin 145LEG-27-0004, dated January 21, 2003 (for Model EMB-135BJ series airplanes); or EMBRAER Service Bulletin 145-27-0096, Revision 03, dated September 2, 2003 (for Model EMB-135ER, -135LR, -135KE, and -135KL series airplanes, and Model EMB-145, -145ER, -145MR, -145LR, -145XR, -145MP, and -145EP series airplanes): Replace the control yoke pitch trim switch with a new switch having a new part number; and replace the placard around the switch knob, as applicable, with a new placard having a new part number in accordance with the Accomplishment Instructions of the applicable service bulletin.

(6) For airplanes listed in EMBRAER Service Bulletin 145-27-0073, Change 02, dated February 26, 2002: Replace the pitch trim back-up control switch with a new switch having a new part number (including reidentifying the trim control panel) in accordance with the Accomplishment Instructions of the service bulletin.

(7) For all airplanes: Connect the HSCU and the data acquisition unit (DAU) (including the replacement of the pitch trim system circuit breakers with new circuit breakers sized for the new system load capacity, as applicable) in accordance with paragraph 3.K. (Part II) of EMBRAER Service Bulletin 145LEG-27-0002, dated February 5, 2003 (for Model EMB-135BJ series airplanes); or paragraphs 3.K., 3.L., 3.M., and 3.N. (Parts II, III, IV, and V) of EMBRAER Service Bulletin 145-27-0084, Revision 04, dated October 21, 2003 (for Model EMB-135ER, -135LR, -135KE, and -135KL series airplanes; and Model EMB-145, -145ER, -145MR, -145LR, -145XR, -145MP, and -145EP series airplanes).

Parts Installation

(c) As of the effective date of this AD, no person may install, on any airplane, a part unless it has been modified in accordance with the applicable paragraph of the affected service bulletins listed in Table 1 of this AD.

Table 1.—Parts Installation Paragraphs
EMBRAER service bulletin | Parts installation paragraph
145-27-0084, Revision 04, dated October 21, 2003 | 1.C.(1)(a)
145LEG-27-0002, dated February 5, 2003 | 1.C.(1)(a)
145-27-0091, Change 02, dated November 27, 2002 | 1.C.(1)(a)
145-31-0028, Change 04, dated December 20, 2002 | 1.C.(a)
145-31-0033, Revision 03, dated August 25, 2003 | 1.C.(1)

Actions Accomplished Per Previous Issues of Service Bulletins

(d) Actions accomplished before the effective date of this AD in accordance with the service bulletins listed in Table 2 of this AD are considered acceptable for compliance with the corresponding action specified in this AD.

Table 2.—Previous Issues of Service Bulletins
EMBRAER service bulletin | Revision and date
145-31-0028 | Original Issue, December 13, 2001.
| Revision 01, January 22, 2002.
| Revision 02, April 2, 2002.
| Revision 03, August 22, 2002.
145-31-0033 | Revision 02, April 27, 2003.
| Revision 03, August 25, 2003.
145-27-0083 | Original Issue, October 4, 2001.
| Revision 01, March 15, 2002.
| Revision 02, April 11, 2002.
| Revision 03, July 16, 2002.
145-27-0084 | Revision 01, December 20, 2002.
| Revision 02, February 25, 2003.
| Revision 03, July 15, 2003.
145-27-0096 | Revision 01, April 7, 2003.
| Revision 02, July 1, 2003.
| Revision 03, September 2, 2003.

Alternative Methods of Compliance

(e) In accordance with 14 CFR 39.19, the Manager, International Branch, ANM-116, FAA, Transport Airplane Directorate, is authorized to approve alternative methods of compliance for this AD.

Note 3: The subject of this AD is addressed in Brazilian airworthiness directive 2003-03-01, dated April 3, 2003.

Issued in Renton, Washington, on January 29, 2004.
Kalene C. Yanamura,
Acting Manager, Transport Airplane Directorate, Aircraft Certification Service.

[FR Doc. 04-2467 Filed 2-5-04; 8:45 am]

BILLING CODE 4910-13-P